DEPARTMENT OF TRANSPORTATION

Coast Guard

[CGD 05-01-005]

Notice and Request for Comments; Letter of Recommendation, LHG or LNG Facility Cove Point, MD

AGENCY: Coast Guard, DOT.

ACTION: Notice and request for public comment.

SUMMARY: In accordance with the requirements in 33 CFR 127.009, the U. S. Coast Guard Captain of the Port, Baltimore (COTP) is preparing a letter of recommendation as to the suitability of the Chesapeake Bay waterway for liquefied hazardous gas (LHG) or liquefied natural gas (LNG) marine traffic. The letter of recommendation is in response to a Letter of Intent to operate the LNG facility at Cove Point, Maryland. In preparation for issuance of the letter of recommendation, the COTP will consider all information submitted by the owner or operator under the requirements of 33 CFR 127.007, as well as comments received from the public.

DATES: Comments and related material must reach the Coast Guard on or before June 12, 2001.

ADDRESSES: You may mail comments and related material to Commander, U.S. Coast Guard Activities Baltimore, 2401 Hawkins Point Road, Baltimore, Maryland 21226-1791. U.S. Coast Guard Activities Baltimore maintains a file for this notice. Comments and material received from the public during the comment period will become part of this file and will be available for inspection or copying at the U.S. Coast Guard Activities Baltimore office, room 205, between the hours of 7:00 a.m. to 3:30 p.m., Monday through Friday, excluding federal holidays.

FOR FURTHER INFORMATION CONTACT: Lieutenant Commander Gordon Loebl at U. S. Coast Guard Activities Baltimore (410) 576-2526.

SUPPLEMENTARY INFORMATION:

Request for Comments

We encourage you to submit comments and related material. If you do so, please include your name and address. Please submit all comments and related material in an unbound format, no larger than 8½ by 11 inches, suitable for copying. For a return receipt, please enclose a stamped, self-addressed postcard or envelope. We will consider all comments and material received during the comment period. The recommendation made by this office may be affected by comments received.

Public Meeting

We do not now plan to hold public meetings or hearings. But you may submit a request for meetings or hearings by writing to Commander, U.S. Coast Guard Activities Baltimore at the address under ADDRESSES explaining why they would be beneficial. If we determine that public hearings or meetings would benefit the recommendation process, we will hold them at a time and place announced by a later notice in the Federal Register.

Dated: April 6, 2001.
T. C. Paar,
Captain, U.S. Coast Guard, Acting Commander, Fifth Coast Guard District.

[FR Doc. 01-9181 Filed 4-12-01; 8:45 am]

BILLING CODE 4910-15-P